DEPARTMENT OF LABOR

Employment and Training Administration

[TA-W-37,657A]

Ambar Chemical, Incorporated Division of Ambar, Incorporated Corporate Office Houston, TX; Amended Certification Regarding Eligibility To Apply for Worker Adjustment Assistance

In accordance with section 223 of the Trade Act of 1974 (19 U.S.C. 2273) the U.S. Department of Labor issued a Certification of Eligibility to Apply for Worker Adjustment Assistance on June 30, 2000 applicable to workers of Ambar Chemical, Incorporated, Corporate Office located in Houston, Texas. The notice was published in the Federal Register on July 24, 2000 (65 FR 45621).

At the request of the State agency, the Department reviewed the certification for workers of the subject firm. The workers provide support services such as accounting, customer service and sales for the subject firms' production facility in Manistee, Michigan. Company information shows that Ambar, Incorporated is the parent firm of Ambar Chemical, Incorporated, Houston, Texas. New information provided by the State shows that workers separated from employment at the Corporate Office, Houston, Texas location of Ambar Chemical, Incorporated had their wages reported under a separate unemployment insurance (UI) tax account at Ambar, Incorporated, also located in Houston, Texas.

Accordingly, the Department is amending the certification to properly reflect this matter.

The intent of the Department's certification is to include all workers of Ambar Chemical, Incorporated who were adversely affected by increased imports.

The amended notice applicable to TA-W-37,657A is hereby issued as follows:

All workers of Ambar Chemical, Incorporated, Ambar, Incorporated, Corporate Office, Houston, Texas who became totally or partially separated from employment on or after April 25, 1999 through June 30, 2002 are eligible to apply for adjustment assistance under Section 223 of the Trade Act of 1974.

Signed at Washington DC this 21st day of November, 2000.
Linda G. Poole,
Certifying Officer, Division of Trade Adjustment Assistance.

[FR Doc. 00-31817 Filed 12-13-00; 8:45 am]

BILLING CODE 4510-30-M